POSTAL SERVICE

Transfer of Post Office Box Service in Selected Locations to the Competitive Product List

AGENCY: Postal Service™.

ACTION: Notice.

SUMMARY: The Postal Service hereby provides notice that Post Office Box™ service for approximately 237 locations will be reassigned from their market-dominant fee groups to competitive fee groups.

DATES: Comments must be received on or before June 10, 2021.

ADDRESSES: Mail or deliver written comments to: Sheila Marano, Manager Product Management, Special Services, 475 L'Enfant Plaza SW, Room 2P836, Washington, DC 20260. Emailed and faxed comments will not be accepted. You may inspect and photocopy all written comments, by appointment only, at the USPS Headquarter Library, 475 L'Enfant Plaza SW, 11th Floor North, Washington, DC 20260. These records are available for review on Monday through Friday, 9 a.m. to 4 p.m., by calling (202)268-2904. All submitted comments and attachments are part of the public record and subject to disclosure. Do not enclose any material in your comments that you consider to be confidential or inappropriate for public disclosure.

FOR FURTHER INFORMATION CONTACT: Valerie Pelton, 202-487-4341.

SUPPLEMENTARY INFORMATION: Locations providing Post Office Box service are classified as competitive or market dominant and assigned to fee groups based upon proximity to private sector competitors and other criteria. Competitive locations provide more services than market dominant ones and have somewhat higher fees. In May 2011, the Postal Service filed a request with the Postal Regulatory Commission (PRC) to transfer approximately 6,800 PO Box locations from market-dominant to competitive fee groups, based on a showing that sufficient competition exists when a private sector alternative exists within five miles or less. PRC Docket No. MC2011-25. Documents pertinent to that proceeding are available at www.prc.gov, Docket No. MC2011-25. At that time, the Postal Service advised the PRC that a Federal Register notice would be filed whenever the Postal Service subsequently updates the list of competitive locations by applying the criteria approved in that docket. Since the original filing, the Postal Service updated the list of competitive locations in 2013 to add an additional location, see 79 FR 60928-60929 (Oct. 2, 2013), and subsequently updated it again to add 1625 locations effective Aug. 27, 2014, see 79 FR 38972-38998 (July 9, 2014). Competitive Post Office Box service includes several enhancements such as: Electronic notification of the receipt of mail, use of an alternate street address format, signature on file for delivery of certain accountable mail, and additional hours of access and/or earlier availability of mail in some locations. Recently, the Postal Service re-applied the Docket No. MC2011-25 criteria to its PO Box locations and determined that an additional 237 locations (out of a total of approximately 32,788 locations) would properly be classified as competitive, based on their proximity to a private sector competitor within five miles. The Postal Service confirms that the 237 locations being reclassified meet all of the criteria that the Commission considered in Docket No. MC2011-25. The Postal Service used WebBATS and geospatial data to identify and confirm that each post office location is within five miles of a private sector competitor. The Postal Service excluded locations with less than 250 boxes due to the “small customer base” and locations with access constraints. Communications are being sent to the identified Postmasters of the locations; and PO Box customers in the identified 237 Post Office locations will receive an email and/or letter notifying them that their PO Boxes are now competitive locations and will include the additional services. Additional internal and external communications are planned as well. A list of affected locations, with the associated ZIP Codes, is provided in the Appendix to this notice.

Joshua Hofer,
Attorney, Ethics & Legal Compliance.

Appendix

Transfer of Additional Post Office Box Locations to Competitive Fee Group—ZIP Code Listing

The following is a list of the locations which are described in the Notice above as qualifying for reassignment from market dominant to competitive fee groups. The list is sorted by ZIP Code in ascending numerical order with geographical breaks and headers. As indicated by the column headings, this list provides the ZIP Code of the affected PO Boxes (ZIP), the office name of the location (OFFICE NAME), the city where the PO Boxes are located (CITY), the current market dominant fee group (CFG), and the new competitive fee group (NFG). Please note that there are more ZIP Codes than locations being moved to competitive fee groups, because some locations serve more than one ZIP Code. These locations can be identified whenever multiple ZIP Codes are listed for a single office name.

ZIP | Facilities name | City | St | CFG | NFG
ALABAMA
35011 | ALEXANDER CITY | ALEXANDER CITY | AL | 4 | 34
35044 | CHILDERSBURG | CHILDERSBURG | AL | 4 | 34
35453 | COTTONDALE | COTTONDALE | AL | 5 | 35
35068 | FULTONDALE | FULTONDALE | AL | 5 | 35
35071 | GARDENDALE | GARDENDALE | AL | 5 | 35
35094 | LEEDS | LEEDS | AL | 4 | 34
36303 | NORTHSIDE | DOTHAN | AL | 4 | 34
35179 | VINEMONT | VINEMONT | AL | 5 | 35
ARKANSAS
72501 | BATESVILLE | BATESVILLE | AR | 5 | 35
72543 | HEBER SPRINGS | HEBER SPRINGS | AR | 5 | 35
ARIZONA
85321 | AJO | AJO | AZ | 3 | 33
86323 | CHINO VALLEY | CHINO VALLEY | AZ | 5 | 35
85028 | CPU KARENS HALLMARK CACTUS | PHOENIX | AZ | 5 | 35
85356 | WELLTON | WELLTON | AZ | 4 | 34
CALIFORNIA
95225 | BURSON | BURSON | CA | 4 | 34
93210 | COALINGA | COALINGA | CA | 5 | 35
95426 | COBB | COBB | CA | 5 | 35
92242 | EARP | EARP | CA | 3 | 33
92548 | HOMELAND | HOMELAND | CA | 4 | 34
92251 | IMPERIAL | IMPERIAL | CA | 3 | 33
95454 | LAYTONVILLE | LAYTONVILLE | CA | 5 | 35
94305 | STANFORD | STANFORD | CA | 3 | 33
92277 | TWENTYNINE PALMS | TWENTYNINE PALMS | CA | 2 | 32
96093 | WEAVERVILLE | WEAVERVILLE | CA | 5 | 35
COLORADO
80102 | BENNETT | BENNETT | CO | 6 | 36
81211 | BUENA VISTA | BUENA VISTA | CO | 4 | 34
80701 | FORT MORGAN | FORT MORGAN | CO | 4 | 34
CONNECTICUT
06268 | STORRS MANSFIELD | STORRS MANSFIELD | CT | 3 | 33
FLORIDA
32615 | ALACHUA | ALACHUA | FL | 4 | 34
34420 | BELLEVIEW | BELLEVIEW | FL | 5 | 35
33043 | BIG PINE KEY | BIG PINE KEY | FL | 5 | 35
32131 | EAST PALATKA | EAST PALATKA | FL | 4 | 34
32439 | FREEPORT | FREEPORT | FL | 3 | 33
32040 | GLEN SAINT MARY | GLEN SAINT MARY | FL | 5 | 35
34736 | GROVELAND | GROVELAND | FL | 4 | 34
32063 | MACCLENNY | MACCLENNY | FL | 3 | 33
34753 | MASCOTTE | MASCOTTE | FL | 7 | 37
34762 | OKAHUMPKA | OKAHUMPKA | FL | 7 | 37
32177 | PALATKA | PALATKA | FL | 4 | 34
34219 | PARRISH | PARRISH | FL | 4 | 34
33946 | PLACIDA | PLACIDA | FL | 5 | 35
33570 | RUSKIN | RUSKIN | FL | 4 | 34
33957 | SANIBEL | SANIBEL | FL | 5 | 35
32959 | SHARPES | SHARPES | FL | 5 | 35
33873 | WAUCHULA | WAUCHULA | FL | 5 | 35
32362 | WOODVILLE | WOODVILLE | FL | 4 | 34
33890 | ZOLFO SPRINGS | ZOLFO SPRINGS | FL | 5 | 35
GEORGIA
30553 | LAVONIA | LAVONIA | GA | 4 | 34
31757 | TALL TIMBERS VLG | THOMASVILLE | GA | 4 | 34
30474 | VIDALIA | VIDALIA | GA | 4 | 34
30680 | WINDER | WINDER | GA | 4 | 34
GUAM
96929 | ANDERSEN AFB | YIGO | GU | 1 | 31
96913 | BARRIGADA | BARRIGADA | GU | 1 | 31
96928 | CPU DEDEDO | DEDEDO | GU | 2 | 32
96912A | CPU DEDEDO | DEDEDO | GU | 2 | 32
96929 | CPU YIGO | YIGO | GU | 1 | 31
96910 | HAGATNA | HAGATNA | GU | 1 | 31
HAWAII
96719 | HAWI | HAWI | HI | 3 | 33
IOWA
50125 | INDIANOLA | INDIANOLA | IA | 5 | 35
52501 | OTTUMWA | OTTUMWA | IA | 5 | 35
IDAHO
83853 | PORTHILL | PORTHILL | ID | 5 | 35
83467 | SALMON | SALMON | ID | 3 | 33
ILLINOIS
60115 | DEKALB | DEKALB | IL | 5 | 35
61801 | DOWNTOWN URBANA | URBANA | IL | 3 | 33
60099 | ZION | ZION | IL | 4 | 34
INDIANA
46312 | EAST CHICAGO | EAST CHICAGO | IN | 4 | 34
46140 | GREENFIELD | GREENFIELD | IN | 3 | 33
46320 | HAMMOND | HAMMOND | IN | 2 | 32
KANSAS
67601 | HAYS | HAYS | KS | 4 | 34
66618 | NORTHPARK | TOPEKA | KS | 4 | 34
KENTUCKY
42330 | CENTRAL CITY | CENTRAL CITY | KY | 4 | 34
41635 | HAROLD | HAROLD | KY | 5 | 35
42431 | MADISONVILLE | MADISONVILLE | KY | 4 | 34
40165 | SHEPHERDSVILLE | SHEPHERDSVILLE | KY | 7 | 37
LOUISIANA
71405 | BALL | BALL | LA | 5 | 35
70427 | BOGALUSA | BOGALUSA | LA | 4 | 34
70043 | CHALMETTE | CHALMETTE | LA | 6 | 36
70359 | GRAY | GRAY | LA | 5 | 35
71360 | PINEVILLE | PINEVILLE | LA | 3 | 33
70663 | SULPHUR | SULPHUR | LA | 4 | 34
71477 | TIOGA | TIOGA | LA | 5 | 35
MARYLAND
20613 | BRANDYWINE | BRANDYWINE | MD | 4 | 34
20755 | FORT GEORGE G MEADE | FORT GEORGE G MEADE | MD | 3 | 33
MAINE
04619 | CALAIS | CALAIS | ME | 2 | 32
04543 | DAMARISCOTTA | DAMARISCOTTA | ME | 4 | 34
04043 | KENNEBUNK | KENNEBUNK | ME | 1 | 31
04046 | KENNEBUNKPORT | KENNEBUNKPORT | ME | 4 | 34
04758 | MARS HILL | MARS HILL | ME | 3 | 33
04553 | NEWCASTLE | NEWCASTLE | ME | 4 | 34
04094 | WEST KENNEBUNK | WEST KENNEBUNK | ME | 4 | 34
MICHIGAN
49401 | ALLENDALE | ALLENDALE | MI | 5 | 35
48111 | BELLEVILLE | BELLEVILLE | MI | 5 | 35
49306 | BELMONT | BELMONT | MI | 5 | 35
MINNESOTA
56537 | FERGUS FALLS | FERGUS FALLS | MN | 4 | 34
56001 | MANKATO | MANKATO | MN | 3 | 33
MISSOURI
63841 | DEXTER | DEXTER | MO | 5 | 35
64083 | RAYMORE | RAYMORE | MO | 3 | 33
63117 | RICHMOND HEIGHTS | SAINT LOUIS | MO | 2 | 32
63080 | SULLIVAN | SULLIVAN | MO | 3 | 33
MISSISSIPPI
39342 | MARION | MARION | MS | 6 | 36
39305 | NORTH MERIDIAN | MERIDIAN | MS | 4 | 34
39307 | WEST MERIDIAN | MERIDIAN | MS | 4 | 34
MONTANA
59917 | EUREKA | EUREKA | MT | 4 | 34
59752 | THREE FORKS | THREE FORKS | MT | 4 | 34
NORTH CAROLINA
28725 | DILLSBORO | DILLSBORO | NC | 5 | 35
27244 | ELON | ELON | NC | 5 | 35
28307 | FORT BRAGG | FORT BRAGG | NC | 2 | 32
28741 | HIGHLANDS | HIGHLANDS | NC | 5 | 35
28348 | HOPE MILLS | HOPE MILLS | NC | 2 | 32
27021 | KING | KING | NC | 5 | 35
28645 | LENOIR | LENOIR | NC | 3 | 33
27557 | MIDDLESEX | MIDDLESEX | NC | 5 | 35
27030 | MOUNT AIRY | MOUNT AIRY | NC | 3 | 33
28372 | PEMBROKE | PEMBROKE | NC | 5 | 35
27045 | RURAL HALL | RURAL HALL | NC | 5 | 35
28779 | SYLVA | SYLVA | NC | 3 | 33
27049 | TOAST | TOAST | NC | 5 | 35
28788 | WEBSTER | WEBSTER | NC | 5 | 35
NORTH DAKOTA
58784 | STANLEY | STANLEY | ND | 5 | 35
NEBRASKA
69341 | GERING | GERING | NE | 4 | 34
69361 | SCOTTSBLUFF | SCOTTSBLUFF | NE | 4 | 34
NEW HAMPSHIRE
03253 | MEREDITH | MEREDITH | NH | 5 | 35
NEW JERSEY
07001 | AVENEL | AVENEL | NJ | 1 | 31
08002 | ELLISBURG | CHERRY HILL | NJ | 3 | 33
07630 | EMERSON | EMERSON | NJ | 1 | 31
NEW MEXICO
87301 | CPU T AND R MARKET | GALLUP | NM | 4 | 34
87015 | EDGEWOOD | EDGEWOOD | NM | 5 | 35
88047 | MESILLA PARK | MESILLA PARK | NM | 4 | 34
NEVADA
89883 | WEST WENDOVER | WEST WENDOVER | NV | 5 | 35
89445 | WINNEMUCCA | WINNEMUCCA | NV | 3 | 33
NEW YORK
13502 | BUTTERFIELD | UTICA | NY | 4 | 34
12919 | CHAMPLAIN | CHAMPLAIN | NY | 5 | 35
12920 | CHATEAUGAY | CHATEAUGAY | NY | 5 | 35
13640 | FINEVIEW | WELLESLEY ISLAND | NY | 4 | 34
13602 | FORT DRUM | FORT DRUM | NY | 3 | 33
13655 | HOGANSBURG | HOGANSBURG | NY | 5 | 35
14843 | HORNELL | HORNELL | NY | 3 | 33
14845 | HORSEHEADS | HORSEHEADS | NY | 3 | 33
13501 | KERNAN | UTICA | NY | 4 | 34
13403 | MARCY | MARCY | NY | 5 | 35
13662 | MASSENA | MASSENA | NY | 4 | 34
13413 | NEW HARTFORD | NEW HARTFORD | NY | 3 | 33
13440 | ROME | ROME | NY | 4 | 34
13683 | ROOSEVELTOWN | ROOSEVELTOWN | NY | 5 | 35
13504 | UTICA | UTICA | NY | 4 | 34
OHIO
43062 | PATASKALA | PATASKALA | OH | 4 | 34
44907 | SOUTHWEST | MANSFIELD | OH | 4 | 34
44281 | WADSWORTH | WADSWORTH | OH | 3 | 33
OKLAHOMA
74429 | COWETA | COWETA | OK | 3 | 33
73533 | DUNCAN | DUNCAN | OK | 4 | 34
74554 | KREBS | KREBS | OK | 5 | 35
74501 | MCALESTER | MCALESTER | OK | 4 | 34
73801 | WOODWARD | WOODWARD | OK | 4 | 34
OREGON
97325 | AUMSVILLE | AUMSVILLE | OR | 5 | 35
97814 | BAKER CITY | BAKER CITY | OR | 3 | 33
97523 | CAVE JUNCTION | CAVE JUNCTION | OR | 4 | 34
97351 | INDEPENDENCE | INDEPENDENCE | OR | 3 | 33
97361 | MONMOUTH | MONMOUTH | OR | 3 | 33
97381 | SILVERTON | SILVERTON | OR | 4 | 34
97385 | SUBLIMITY | SUBLIMITY | OR | 4 | 34
PENNSYLVANIA
19023 | DARBY | DARBY | PA | 3 | 33
19348 | KENNETT SQUARE | KENNETT SQUARE | PA | 3 | 33
17044 | LEWISTOWN | LEWISTOWN | PA | 4 | 34
17850 | MONTANDON | MONTANDON | PA | 5 | 35
18015 | SOUTHSIDE | BETHLEHEM | PA | 3 | 33
19372 | THORNDALE | THORNDALE | PA | 3 | 33
18657 | TUNKHANNOCK | TUNKHANNOCK | PA | 3 | 33
19375 | UNIONVILLE | UNIONVILLE | PA | 5 | 35
PUERTO RICO
00965 | CPU AMELIA CONTRACT | GUAYNABO | PR | 3 | 33
00907 | CPU CONDADO CONTRACT STA | SAN JUAN | PR | 2 | 32
00685 | CPU HATO ARRIBA CONTRACT | SAN SEBASTIAN | PR | 2 | 32
00979 | CPU ISLA VERDE CONTRACT | CAROLINA | PR | 2 | 32
00936 | SAN JUAN | SAN JUAN | PR | 2 | 32
00976 | TRUJILLO ALTO | TRUJILLO ALTO | PR | 2 | 32
RHODE ISLAND
02882 | NARRAGANSETT | NARRAGANSETT | RI | 2 | 32
SOUTH CAROLINA
29822 | CLEARWATER | CLEARWATER | SC | 5 | 35
29569 | LORIS | LORIS | SC | 3 | 33
SOUTH DAKOTA
57532 | FORT PIERRE | FORT PIERRE | SD | 6 | 36
57501 | PIERRE | PIERRE | SD | 5 | 35
57069 | VERMILLION | VERMILLION | SD | 4 | 34
57078 | YANKTON | YANKTON | SD | 4 | 34
TENNESSEE
37643 | ELIZABETHTON | ELIZABETHTON | TN | 3 | 33
37062 | FAIRVIEW | FAIRVIEW | TN | 5 | 35
37743 | GREENEVILLE | GREENEVILLE | TN | 3 | 33
TEXAS
75751 | ATHENS | ATHENS | TX | 3 | 33
75551 | ATLANTA | ATLANTA | TX | 5 | 35
78133 | CANYON LAKE | CANYON LAKE | TX | 5 | 35
78834 | CARRIZO SPRINGS | CARRIZO SPRINGS | TX | 7 | 37
78234 | FORT SAM HOUSTON | JBSA FT SAM HOUSTON | TX | 5 | 35
78358 | FULTON | FULTON | TX | 6 | 36
78026 | JOURDANTON | JOURDANTON | TX | 4 | 34
75142 | KAUFMAN | KAUFMAN | TX | 3 | 33
79331 | LAMESA | LAMESA | TX | 5 | 35
78642 | LIBERTY HILL | LIBERTY HILL | TX | 7 | 37
77864 | MADISONVILLE | MADISONVILLE | TX | 4 | 34
77357 | NEW CANEY | NEW CANEY | TX | 6 | 36
77630 | ORANGE | ORANGE | TX | 5 | 35
77446 | PRAIRIE VIEW | PRAIRIE VIEW | TX | 7 | 37
75572 | QUEEN CITY | QUEEN CITY | TX | 6 | 36
77510 | SANTA FE | SANTA FE | TX | 7 | 37
79556 | SWEETWATER | SWEETWATER | TX | 5 | 35
76692 | WHITNEY | WHITNEY | TX | 7 | 37
75169 | WILLS POINT | WILLS POINT | TX | 4 | 34
UTAH
84651 | PAYSON | PAYSON | UT | 4 | 34
VIRGINIA
20143 | CATHARPIN | CATHARPIN | VA | 5 | 35
24504 | COURTHOUSE LYNCHBURG | LYNCHBURG | VA | 3 | 33
23801 | FORT LEE | FORT LEE | VA | 3 | 33
22630 | FRONT ROYAL | FRONT ROYAL | VA | 3 | 33
24572 | MADISON HEIGHTS | MADISON HEIGHTS | VA | 5 | 35
VIRGIN ISLANDS
00802 | CHARLOTTE AMALIE | ST THOMAS | VI | 2 | 32
00830 | CRUZ BAY | ST JOHN | VI | 5 | 35
00802 | EMANCIPATION GARDENS | ST THOMAS | VI | 2 | 32
00802 | VETERANS ANNEX | ST THOMAS | VI | 3 | 33
VERMONT
05440 | ALBURGH | ALBURGH | VT | 4 | 34
05033 | BRADFORD | BRADFORD | VT | 4 | 34
05830 | DERBY LINE | DERBY LINE | VT | 5 | 35
05855 | NEWPORT | NEWPORT | VT | 3 | 33
05478 | SAINT ALBANS | SAINT ALBANS | VT | 3 | 33
05676 | WATERBURY | WATERBURY | VT | 2 | 32
05777 | WEST RUTLAND | WEST RUTLAND | VT | 4 | 34
WASHINGTON
99109 | CHEWELAH | CHEWELAH | WA | 5 | 35
98501 | CPU SAFEWAY 7 | TUMWATER | WA | 2 | 32
99006 | DEER PARK | DEER PARK | WA | 5 | 35
98257 | LA CONNER | LA CONNER | WA | 5 | 35
98045 | NORTH BEND | NORTH BEND | WA | 4 | 34
98844 | OROVILLE | OROVILLE | WA | 5 | 35
98394 | VAUGHN | VAUGHN | WA | 3 | 33
WISCONSIN
53029 | HARTLAND | HARTLAND | WI | 4 | 34
54476 | SCHOFIELD | SCHOFIELD | WI | 3 | 33
54880 | SUPERIOR | SUPERIOR | WI | 4 | 34
WEST VIRGINIA
26330 | BRIDGEPORT | BRIDGEPORT | WV | 4 | 34
25625 | HOLDEN | HOLDEN | WV | 5 | 35
24901 | LEWISBURG | LEWISBURG | WV | 4 | 34
25560 | SCOTT DEPOT | SCOTT DEPOT | WV | 5 | 35
25652 | WHITMAN | WHITMAN | WV | 5 | 35
WYOMING
82716 | GILLETTE | GILLETTE | WY | 5 | 35
82072 | LARAMIE | LARAMIE | WY | 5 | 35

[FR Doc. 2021-09100 Filed 5-10-21; 8:45 am]

BILLING CODE 7710-12-P